COMMODITY FUTURES TRADING COMMISSION

17 CFR Part 1

RIN 3038-AC72

Acknowledgment Letters for Customer Funds and Secured Amount Funds; Correction

AGENCY: Commodity Futures Trading Commission.

ACTION: Notice of proposed rulemaking; correction.

SUMMARY: This document corrects a heading in the notice of proposed rulemaking published in the Federal Register of August 9, 2010, regarding Acknowledgment Letters for Customer Funds and Secured Amount Funds.

FOR FURTHER INFORMATION CONTACT: Eileen A. Donovan, 202-418-5096.

Correction

In the notice of proposed rulemaking, beginning on page 47738 in the issue of August 9, 2010, make the following correction.

§ 1.20 [Corrected]

On page 47743 in the middle column, correct the heading “Appendix § 1.20—Acknowledgment Letter for CFTC Regulation 1.20 Customer Segregated Account” to read “Appendix A to § 1.20—Acknowledgment Letter for CFTC Regulation 1.20 Customer Segregated Account.”

Dated: August 11, 2010.
David A. Stawick,
Secretary of the Commission.

[FR Doc. 2010-20311 Filed 8-16-10; 8:45 am]

BILLING CODE P